DEPARTMENT OF ENERGY

Notice of Intent To Prepare a Programmatic Environmental Impact Statement on the, Disposition of Scrap Metals and Announcement of Public Scoping Meetings

AGENCY: Department of Energy.

ACTION: Notice of intent to prepare a Programmatic Environmental Impact Statement.

SUMMARY: This notice announces the Department of Energy's (DOE's) intention to prepare a Programmatic Environmental Impact Statement (PEIS), under the National Environmental Policy Act, on the policy alternatives for the disposition of DOE scrap metals that may have residual surface radioactivity. The primary metals to be considered in the analysis are carbon steel and stainless steel. Other metals [e.g., copper, aluminum, lead, and precious metals (silver, gold, platinum)], which exist in smaller quantities, will also be addressed in the PEIS. The disposition alternatives to be analyzed include: continuation of the suspension on unrestricted release of scrap metals from DOE radiological areas for recycling; unrestricted release of scrap metals for recycling under existing DOE requirements; unrestricted release of scrap metals for recycling under alternative requirements; and no unrestricted release for recycling of scrap metals with any potential for residual surface radioactivity.

DATES: The public scoping period begins with publication of this Notice and concludes September 10, 2001. DOE invites Federal agencies, Native American tribes, state and local governments, and members of the public to comment on the scope of this PEIS. DOE will consider all comments received by the close of the scoping period and will consider comments received after that date to the extent practicable. DOE will conduct public scoping meetings to assist in defining the appropriate scope of the PEIS, including the alternatives and significant environmental issues to be considered. See SUPPLEMENTARY INFORMATION under Public Scoping Process for meeting locations.

ADDRESSES: Comments on the scope of the PEIS may be mailed to the address below or sent by facsimile or electronic mail. Written comments may be mailed to the following address: Kenneth G. Picha, Jr., Office of Technical Program Integration, EM-22, Attn: Metals Disposition PEIS, Office of Environmental Management, U.S. Department of Energy, 1000 Independence Avenue, SW., Washington, DC 20585-0113.

Otherwise, send comments via facsimile to Metals Disposition PEIS at 301-903-9770 or send electronic mail to Metals.Disposition.PEIS@em.doe.gov. See SUPPLEMENTARY INFORMATION under Public Scoping Process for meeting locations.

FOR FURTHER INFORMATION CONTACT: To request further information about this PEIS, the public scoping meetings, or to be placed on the PEIS distribution list, use any of the methods listed under ADDRESSES above. For background documents in hard copy related to this PEIS contact the DOE Center for Environmental Management Information at 800-736-3282. For general information concerning the DOE National Environmental Policy Act (NEPA) process, contact: Carol Borgstrom, Director, Office of NEPA Policy and Compliance (EH-42), U.S. Department of Energy, 1000 Independence Avenue, SW., Washington, DC 20585-0119, Telephone: 202-586-4600, Voice Mail: 800-472-2756, Facsimile: 202-586-7031.

Additional NEPA information is also available on the DOE website: http//tis.eh.doe.gov/nepa/.

SUPPLEMENTARY INFORMATION:

Definitions

For purposes of this Notice, the following terms are defined:

Continued Radiological Control: The disposition of surplus and scrap metals for subsequent reuse or recycle in a government or commercial radiological application. Such reuse or recycle activities would be conducted under established agency-to-agency protocols, Nuclear Regulatory Commission (NRC) licenses, or NRC Agreement State licenses.

DOE Radiological Area: An area, designated under 10 CFR Part 835, for which DOE requires specific measures to be taken, such as access control and monitoring, to protect DOE workers from radiological hazards. A radiological area may or may not contain radioactive materials. An example of a radiological area that does not contain radioactive material is an area that contains only devices that produce radiation, such as X-ray machines, but which are not themselves radioactive and are unable to make other materials radioactive.

Recycle: The series of activities, including collection, separation, and processing, by which products or other materials are recovered from the solid waste stream for use in the form of raw materials in the manufacture of new products. (Executive Order 13101)

Residual Radioactivity: Any radioactivity that is in or on soil, air, equipment, or structures as a consequence of past operations or activities at a DOE site. (Residual radioactivity does not include background radioactivity.)

Restricted Release: The release of scrap metals from DOE radiological control for a limited, specifically-stated application, subject to restrictions on use implemented by a designated party or through a specific process. An example would be the release of scrap steel specifically for use in making radioactive waste storage containers.

Reuse: The subsequent use of a surplus item in its original form for the same or similar purpose.

Scrap metal: Surplus metal that has no value except for its basic material content. Scrap metal could include items such as furniture and equipment that cannot be reused, construction steel, and metals not yet put to use such as ingots that would have to be processed to be used.

Surplus metal: Metal items that DOE does not need.

Unrestricted Release: The release of property, including scrap metal, without any restrictions or controls on its use.

Volumetrically Contaminated: A material that has residual radioactivity distributed throughout its volume, as opposed to residing only on the exterior surface of the material.

Background

DOE generates surplus and scrap material during the normal course of activities. The types of surplus and scrap material include metals, concrete, soils, paper, wood, chemicals, equipment, and facilities. Consistent with common industrial practice, DOE has historically sought to reduce the amount of material that must be disposed of by reusing and recycling as much of this surplus and scrap material as possible. This practice is consistent with the requirements of Executive Orders 13101, Greening the Government Through Waste Prevention, Recycling, and Federal Acquisition, and 13148, Greening the Government Through Leadership in Environmental Management. Historically, some of this material has been reused or recycled within the DOE system, some has been released for reuse or recycling outside of DOE, and some has been disposed of. The residual value of reused or recycled materials, along with the costs avoided by not having to pay to dispose of such materials, have reduced the cost of environmental cleanup and waste disposal activities at DOE sites.

The recycling of materials that have residual radioactivity could affect workers involved in the recycling of those materials, and also the general public, because products manufactured from recycled materials may have many exposure pathways to the public. To protect recycle workers, the general public, and the environment, DOE has established requirements (DOE Order 5400.5, Radiation Protection of the Public) for surveying materials for radioactivity and for allowable residual radioactivity levels for unrestricted release of such materials. These requirements allow unrestricted release of materials with radioactivity slightly above background radioactivity levels. Release limits under DOE Order 5400.5 are comparable to those in corresponding regulations established by the NRC and NRC Agreement States, and are generally more stringent than international standards set by the International Atomic Energy Agency. These release limits are intended to provide assurance that potential exposures to the public from residual radioactivity will be well below general radiation exposure limits established by DOE and NRC for protection of the public.

Despite these release limits, however, some members of the public and some industry groups have expressed concern regarding the potential impacts from radioactivity in or on the material released. This concern has primarily focused on releases of metals from DOE facilities, and is related to a number of factors, including the wide range of potential uses of recycled metals, such as in household products, and the potential effects on industrial operations and product acceptability. Although DOE has not identified any evidence that the public might be harmed by releases from DOE facilities, DOE has, in response to previously expressed concerns, identified opportunities to improve radiation monitoring, independent verifications, and record keeping and reporting.

The Department also responded to the stakeholders' concerns by taking two actions. First, on January 12, 2000, the Department established a moratorium on the release of volumetrically contaminated metals from any DOE location pending a decision by the NRC on potential policy and technical approaches for release of solid materials. The NRC continues to review this issue and the DOE moratorium remains in effect. Second, on July 13, 2000, the Department: (1) Initiated a process to improve the administration of its release limits, (2) enhanced its criteria for controlling the release of metal for recycling, and (3) temporarily suspended the unrestricted release of scrap metal, for recycling, from radiological areas at DOE facilities. The suspension was to remain in effect until DOE directives and guidance were reviewed and amended as necessary to ensure that no metal with detectable radioactivity above background (using appropriate commercially available monitoring equipment) would undergo unrestricted release for recycling. The suspension does not apply to metals released from non-radiological areas.

DOE subsequently proposed revisions to DOE Order 5400.5 that, if implemented, would permit the unrestricted release of scrap metals for recycling only if the metal had no residual radioactivity as determined by measurement or process knowledge. These proposed order revisions were made available for public comment (65 FR 60653, October 12, 2000). After considering comments received on the proposed revisions, DOE decided on January 19, 2001 to: (1) Continue the suspension on unrestricted release for recycling of scrap metals from radiological areas, and (2) suspend work on DOE Order 5400.5 revisions governing unrestricted release for recycling of metals, pending the preparation of a PEIS to allow an open discussion of concerns about such releases. (Note: This Notice of Intent to Prepare a PEIS is being provided to all persons who indicated they were interested in the proposed DOE Order 5400.5 revisions.)

DOE's materials release procedures that are not affected by the January 19, 2001, decision continue to be implemented. For example, all materials, including metals, located outside a DOE radiological area can be reused or recycled if the requirements established for radiological protection of the public (DOE Order 5400.5) are met. These same radiological protection requirements continue to govern the unrestricted release of surplus metal items from radiological areas for reuse rather than recycling.

DOE is reviewing international and national consensus-based radiological standards for unrestricted release of materials and is monitoring and, as appropriate, participating in related NRC and National Academy of Sciences (NAS) activities, but DOE has no specific plans for changing its own standards until at least the NAS has completed the current studies. DOE is, however, implementing procedural improvements for the existing release requirements in DOE Order 5400.5 to: (1) Clearly define areas and activities that can potentially radiologically contaminate materials; (2) clearly define radiological release criteria, including measurement and survey protocols; (3) ensure that released materials meet DOE requirements; and (4) improve DOE reporting on releases of material from radiological control. DOE also intends to prepare a PEIS on its policies relating to scrap metal recycling to allow for full and open dialogue with the public on the issues. While this PEIS is being prepared, DOE will continue the July 2000 suspension on recycling of scrap metal from radiological areas into commerce, unless DOE makes a specific determination that the metal could not have been radioactively contaminated by DOE activities or operations.

Purpose and Need for Action

The PEIS announced in this notice is being prepared in response to DOE's January 19, 2001, decision. DOE will use the PEIS as a basis for decisions concerning disposition policies for the recycle of scrap metals that may have residual surface radioactivity.

In focusing the PEIS specifically on scrap metals, DOE considered whether the scope of the PEIS should include all potentially radioactive materials that might be released from DOE sites, including large volumes of concrete and soils. Recycled metals have comprised approximately one-quarter of the total amount of materials recycled by DOE. The options for reuse, recycling or disposal, however, vary widely among material categories. For example, the management of scrap metals and the steps by which they are recycled into commerce, and the consequent means by which people and the environment could be exposed to any residual radioactivity, are quite different from the corresponding process for other materials, such as soils, which might typically be used in highway construction projects rather than in manufactured products.

In addition, radiation exposure pathways for the various metal and non-metal materials are not likely to be connected, cumulative, or similar, and assessments to date indicate that potential radiation exposure from any of these materials (including metals) is very small, both individually and collectively.

DOE estimates that surplus metals currently in inventory and to be generated over the next 35 years will total more than a million tons, a significant fraction of which will contain no residual radioactivity. DOE estimates that approximately 30-50% of its surplus metals will be scrap metals that will be candidates for recycling, based on economic considerations. DOE's Environmental Management Program's decontamination and decommissioning activities are responsible for the majority of the current inventory of scrap metals, and will also generate the majority of the scrap metals that will become available for recycling in the future.

The current and future expected surplus metals are mostly carbon steel, stainless steel, and nickel. There will be more surplus carbon steel than all other surplus metals combined. Unlike the steels proposed to be addressed in the EIS, all the nickel is considered to be volumetrically contaminated, and is not covered in the proposed scope of the PEIS. There are smaller quantities of other metals [e.g., copper, aluminum, lead, and precious metals (silver, gold, platinum)] that will be addressed in the PEIS. More than half of the current and forecast scrap metal amounts, including almost all of the scrap nickel, will result from the decommissioning of the Gaseous Diffusion Plants in Ohio, Kentucky and Tennessee. The estimated average generation rates through the year 2015 are 50,000 tons per year for carbon steel, 4,000 tons per year for stainless steel, and 3,000 tons per year for nickel.

DOE proposes that the PEIS would not address volumetrically contaminated nickel and other metals, which remain subject to a moratorium on their release pending the outcome of NRC's review process. DOE plans to focus the PEIS primarily on those metals that represent the greatest potential for impacts due to their volumes, i.e., carbon steel and stainless steel. By focusing on the recycle of non-volumetrically contaminated scrap metals, DOE believes it can most effectively evaluate the benefits and risks of specific disposition alternatives. This would present the public and DOE with relevant, timely, and immediately useful information for resolving the most pressing and significant of DOE's material disposition issues.

For all these reasons, DOE believes the greatest value to the Department and the public for this effort will be to focus this PEIS on the recycle of scrap metals with potential for residual surface radioactivity.

As noted above, similar issues are being evaluated through the ongoing process being conducted by the NRC and the NAS to address technical requirements and NRC standards for unrestricted release of radioactively contaminated solid materials. DOE expects that this PEIS will be useful to NRC and NAS, and DOE also intends to incorporate into the PEIS any timely and relevant information developed by NRC and NAS.

Preliminary Alternatives

Consistent with NEPA implementation requirements, the PEIS will assess the range of reasonable alternative policies regarding disposition of DOE scrap metals with any potential for residual surface radioactivity. Each alternative identified below is a strategy or policy option. DOE welcomes comments on these or other reasonable alternatives and on the identification of a preferred alternative.

No Action Alternative (Continue Current Suspension on Unrestricted Release for Recycling of Scrap Metals from Radiological Areas)—The No Action Alternative would continue the status-quo established by the July 13, 2000, DOE policy decision, suspending the unrestricted release for recycling of scrap metals from DOE radiological areas. Such metals would be dispositioned through continued radiological control, restricted release for recycle, onsite storage, or disposal. Disposal would be either as radioactive waste at DOE or non-DOE facilities, in accordance with DOE's requirements for the applicable waste classification (i.e., transuranic, low-level, or mixed low-level), or as non-radioactive waste at appropriate facilities (industrial landfills, sanitary landfills, or hazardous waste disposal sites), depending upon the waste's characteristics after final treatment. Disposal in an industrial or sanitary landfill or a hazardous waste disposal facility would be considered a restricted release from radiological control.

Alternative 1 (Unrestricted Release for Recycling of Scrap Metals under Requirements in DOE Order 5400.5, Radiation Protection of the Public)—This alternative would permit unrestricted release of scrap metals from DOE radiological areas and scrap metals outside radiological areas that may have residual surface radioactivity, through application of radiological control standards currently incorporated in DOE Order 5400.5 (August 1993). This was the practice DOE followed before the July 2000 suspension. Such metals that could not meet these requirements would be dispositioned through continued radiological control, restricted release for recycle, onsite storage, or disposal, as described above under the No Action Alternative.

Alternative 2 (Unrestricted Release for Recycling of Scrap Metals for Recycle under Alternative Standards)—This broad alternative would permit unrestricted release of scrap metals from DOE radiological areas and scrap metals outside radiological areas that may have residual surface radioactivity, if they satisfy specific radiation protection requirements other than those in DOE Order 5400.5. DOE would analyze several alternative threshold radiological criteria for unrestricted release. Alternative radiological criteria that could be considered include international (e.g., International Atomic Energy Agency, European Commission) and U.S. (e.g., NRC, American National Standards Institute, National Council on Radiation Protection and Measurements) standards for unrestricted release. In addition, a more stringent standard that requires “radioactivity indistinguishable from background” will be evaluated. Under each alternative standard, metals that do not satisfy the standard for unrestricted release would be dispositioned through continued radiological control, restricted release for recycle, onsite storage, or disposal, as described above under the No Action Alternative.

Alternative 3 (No Unrestricted Release for Recycling of Scrap Metals with Potential for Residual Surface Radioactivity)—This alternative would permit the unrestricted release for recycling of scrap metals from DOE sites only if there is clear process knowledge, confirmed by monitoring, that there is no potential for residual surface radioactivity. Metals that do not meet this condition would be dispositioned through continued radiological control, restricted release for recycle, onsite storage, or disposal, as described above under the No Action Alternative.

Preliminary Identification of Issues

DOE intends to address the issues listed below in the process of considering the potential impacts of alternatives for disposition of scrap metals from radiological areas or scrap metals outside radiological areas that may have residual surface radioactivity. DOE invites comment from Federal agencies, Native American tribes, state and local governments, and the public on these and any other issues that should be considered in the PEIS:

• Potential impacts on public health from using products made from recycled metals.

• Improvements in DOE's procedures for unrestricted release of scrap metals.

• Potential impacts from alternative approaches for determining which scrap metals on DOE sites may have come from radiological areas or may have residual radioactivity. Such approaches include: (1) Using records pertaining to the locations of the metal during its use and the circumstances to which it was subjected, (2) conducting radiation surveys of scrap metals, (3) using records to determine appropriate radiation survey strategies, and (4) integrating elements of each approach into formal procedures or protocols.

• Potential effects on air, soil, and surface and ground water from recycling, storage and disposal activities, and from reasonably foreseeable accidents associated with these activities.

• Potential impacts on ecological resources, including threatened and endangered species, floodplains, and wetlands.

• Potential health impacts on the public and DOE's workers from exposure to radiological and chemical hazards during routine recycling, storage or disposal operations and reasonably foreseeable accidents.

• Radiological considerations related to the management of recycled materials by both the commercial scrap metal recycle and metal-producing industries, including potential impacts on workers.

• Potential environmental and health impacts that might be avoided by recycling metals, as opposed to their disposal.

• Potential effects on industrial applications of recycled metals.

• Socioeconomic impacts.

• Compliance with applicable Federal, state and local requirements and agreements, and consistency with U.S. and international standards for unrestricted release.

• Potential effects on radioactive waste and non-radioactive waste disposal site construction and operation if scrap metals that might otherwise be recycled were instead disposed of.

• Potential effect on DOE's environmental cleanup activities and related costs.

• Pollution prevention, waste minimization, and energy and water use reduction technologies to reduce the use of energy, water, and hazardous substances, and to mitigate environmental impacts during activities to disposition scrap metals from DOE sites.

• Impacts on cultural and historic resources.

• Cumulative environmental impacts of past, present and reasonably foreseeable future actions.

• Irreversible and irretrievable commitment of resources.

In addition, DOE requests that the public provide information on, or responses to, specific topics such as:

• What other impacts beyond those identified above should DOE consider?

• Information sources for evaluating environmental impacts associated with the recycling of scrap metals that may have residual surface radioactivity.

• What specific health and safety impacts have arisen from implementing DOE's metals recycling program?

• What specific harm could occur to the general public or recycle industry workers under implementation of DOE Order 5400.5 or other standards for unrestricted release of scrap metals?

Related NEPA Documents

This PEIS will consider the information and analyses in the following DOE NEPA documents, which can be found at DOE Field Office Public Reading Rooms, the Environmental Management Information Center (800 736-3282), the DOE Environmental Management website (http://www.em.doe.gov/index4.html ), or the DOE NEPA website (http://tis.doe.gov/nepa/).

• Waste Management Programmatic Environmental Impact Statement for Managing Treatment, Storage, and Disposal of Radioactive and Hazardous Waste (DOE/PEIS-0200-F, May 1997).

• Sale of Radioactively Contaminated Scrap Nickel Ingots at the Paducah Gaseous Diffusion Plant, Paducah, KY (DOE/EA-0994, April 1996).

• Recycling of Slightly Activated Copper Coil Windings from the 184-inch Cyclotron at Lawrence Berkeley Laboratory, Berkeley, California (DOE/EA-0851, June 1993).

Public Scoping Process

DOE will hold meetings in the following locations.

July 31, 2001

2:00-5:00 pm

8:00-11:00 pm

North Augusta Community Center, 495 Brookside Avenue, North Augusta, South Carolina 29841

August 2, 2001

2:00-5:00 pm

8:00-11:00 pm

American Museum of Science & Energy, 300 South Tulane Avenue, Oak Ridge, Tennessee 37830

August 7, 2001

2:00-5:00 pm

8:00-11:00 pm

Holiday Inn Oakland Airport, 500 Hegenberger Road, Oakland, California 94621

August 9, 2001

2:00-5:00 pm

8:00-11:00 pm

Red Lion Hotel, 802 George Washington Way, Richland, Washington 99352

August 14, 2001

2:00-5:00 pm

8:00-11:00 pm

Omni Netherland Plaza Hotel, 35 West Fifth Street, Cincinnati, Ohio 45202

August 16, 2001

2:00-5:00 pm

8:00-11:00 pm

Hilton Crystal City, 2399 Jefferson Davis Highway, Arlington Virginia 22202

At 1:00 and 7:00 pm prior to each public scoping meeting, an information/open house will be offered to persons interested in radiation fundamentals, including sources and health effects, not specifically related to metal recycling.

At each scoping meeting, the public will have the opportunity to ask questions and to comment orally or in writing on the scope of the PEIS, including the alternatives and issues that DOE should consider. Also, at these meetings, DOE plans to provide background information on the program and the PEIS preparation schedule.

To ensure that the full range of issues related to the preparation of this PEIS is addressed, DOE is inviting comments on the proposed scope of the PEIS from all interested parties during the scoping period. Written comments should be addressed to Mr. Kenneth G. Picha, Jr. as provided above under the heading ADDRESSES. Agencies, organizations, and the general public are also invited to present oral comments at the public scoping meetings to be held at the places listed above. Written and oral comments will be given equal consideration. To ensure that everyone has an adequate opportunity to speak, each speaker at a scoping meeting will be allotted five minutes. Depending on the number of persons who ask to speak, more time may be provided for speakers representing organizations. Persons wishing to speak on behalf of organizations should identify the organization in their request. Written comments will also be accepted at the meetings. Speakers at the scoping meetings are encouraged to provide written versions of their oral comments for the record.

DOE will record and prepare transcripts of the oral comments received during the public scoping meetings. Interested persons will be able to receive copies of the transcripts and written comments by requesting this information from Mr. Picha (see ADDRESSES).

Preliminary PEIS Schedule

DOE plans to complete the Draft PEIS by January 2002. DOE will announce the availability of the Draft PEIS in the Federal Register and other media, and will provide the public, organizations, and agencies with an opportunity to submit comments. These comments will be considered and addressed in the Final PEIS, which DOE plans to issue by about July 2002. DOE will issue a Record of Decision no sooner than 30 days after publication of the Environmental Protection Agency's notice of availability of the Final PEIS.

Issued in Washington, D.C, on July 6, 2001.
Steven V. Cary,
Acting Assistant Secretary, Office of Environment, Safety and Health.

[FR Doc. 01-17438 Filed 7-11-01; 8:45 am]

BILLING CODE 6450-01-P